DEPARTMENT OF THE INTERIOR

Minerals Management Service

Outer Continental Shelf (OCS), Alaska Region, Cook Inlet, Oil and Gas Lease Sales 191 and 199 for Years 2004 and 2006

AGENCY: Minerals Management Service, Interior.

ACTION: Call for Information and Nominations and Notice of Intent (CALL/NOI) to prepare an Environmental Impact Statement (EIS).

SUMMARY: The Secretary's preliminary decision to consider two sales in the Cook Inlet area in the Proposed OCS Oil and Gas Leasing Program for 2002-2007 provides for the first sale to be held in 2004, with a second sale in 2006. The MMS has modified its prelease planning and decision process for proposed Cook Inlet sales included in the proposed program. This Call/NOI reflects that change and is in keeping with the Secretary's preliminary decision to analyze these two sales in a multi-sale EIS. The Secretary's preliminary decision is to offer only the Cook Inlet portion of the Cook Inlet/Shelikof Strait planning area as the program area for this 5-year program. The sale process for this first sale will require a minimum of 2½ years to complete. In order to meet the requirements of that schedule, we are issuing this Call/NOI at this time, recognizing that the final decision on the 2002-2007 5-year program has not been made and final delineation of the program areas and number of sales may change from that included in the proposed program.

The multi-sale review process is based on over 25 years of leasing in the Cook Inlet/Shelikof Strait area. The process will incorporate planning and analysis for two sales: Sales 191 and 199. From the initial step in the process (the Call for Information and Nominations) through the final EIS/Consistency Determination (CD) step, this process will cover multiple sale proposals. However, there will also be complete National Environmental Policy Act (NEPA), OCS Lands Act, and Coastal Zone Management Act coverage for each sale after the first sale—either an Environmental Assessment or Supplemental EIS, CD, and a proposed and final Notice of Sale. The environmental analysis and the CD for the subsequent sale, Sale 199, will focus primarily on new issues or changes in the State of Alaska's federally-approved coastal management plan.

This process will:

—Focus the environmental analysis by making impact types and levels that change between sales more easily recognizable for all reviewers,

—Result in new issues being more easily highlighted for the public,

—Eliminate issuance and public review of repetitive, voluminous EIS's for each sale a practice that has resulted in “review burnout” in Federal, state, local and tribal governments, and the public,

—Result in a more efficient and responsive application of NEPA.

This Call does not indicate a preliminary decision to lease in the area described below. Final delineation of the areas for possible leasing will be made at a later date in the presale process for each sale in compliance with the final 5-year program and with applicable laws including all requirements of the NEPA and the OCS Lands Act.

DATES: Nominations and comments must be received on or before February 14, 2002 in envelopes labeled “Nominations for Proposed 2002-2007 Lease Sales in the Cook Inlet,” or “Comments on the Call for Information and Nominations for Proposed 2002-2007 Lease Sales in the Cook Inlet,” as appropriate.

FOR FURTHER INFORMATION CONTACT: Please call Tom Warren at (907) 271-6691 in MMS's Alaska OCS Region regarding questions on the Call/NOI.

SUPPLEMENTARY INFORMATION:

Call for Information and Nominations

1. Authority

This Call is published pursuant to the OCS Lands Act as amended (43 U.S.C. 1331-1356, (1994)), and the regulations issued thereunder (30 CFR 256); and in accordance with the Proposed OCS Oil and Gas Leasing Program 2002 to 2007.

2. Purpose of Call

The purpose of the Call is to gather preliminary information for the following tentatively scheduled OCS Oil and Gas Lease Sales in the Cook Inlet area:

Sale No. | Tentative sale date
191 | May 2004.
199 | May 2006.

Information and nominations on oil and gas leasing, exploration, and development and production within the Cook Inlet area are sought from all interested parties. This early planning and consultation step is important for ensuring that all interests and concerns are communicated to the Department of the Interior for future decisions in the leasing process pursuant to the OCS Lands Act and regulations at 30 CFR 256.

Responses are requested relative to all sales included herein. This Call/NOI is being issued in accordance with the Proposed OCS Oil and Gas Leasing Program 2002 to 2007 released on October 26, 2001. The proposed program offers three options for leasing in the Cook Inlet area in the 2002-2007 5-year program: two sales, one sale, or no sales.

3. Description of Area

The area that is the subject of this Call is located offshore the State of Alaska in Cook Inlet as depicted on the map that accompanies this Call. This area consists of approximately 517 whole and partial blocks (about 2.5 million acres). A page size map of the area accompanies this Notice. A large scale Call map showing the boundaries of the area on a block-by-block basis is available without charge from the Records Manager at the address given below, or by telephone request at (907) 271-6438 or 1-800-764-2627. Copies of Official Protraction Diagrams (OPDs) are also available for $2 each.

Alaska OCS Region, Minerals Management Service, 949 East 36th Avenue, Room 308, Anchorage, Alaska, 99508-4302, akwebmaster@mms.gov

4. Instructions on Call

The Call for Information Map and indications of interest and/or comments must be submitted to the Regional Supervisor, Leasing and Environment, at the above address.

The Call map delineates the area that is the subject of this Call. Respondents are requested to indicate interest in and comment on any or all of the Federal acreage within the boundaries of the Call area that they wish to have included in each of the proposed sales in the Cook Inlet Call area.

If you wish to comment, you may submit your comments by any one of the following methods:

• You may mail comments to the Alaska OCS Region, Minerals Management Service, 949 East 36th Avenue, Room 308, Anchorage, Alaska 99508-4302.

• You may also comment via e-mail to CookInletMulti-Sale@mms.gov. Please submit Internet comments as an ASCII file avoiding the use of special characters and any form of encryption. Please also include “Attn: Comments on Call for Information and Nominations for Proposed 2002-2007 Lease Sales in the Cook Inlet” and your name and return address in your Internet message.

• Finally, you may hand-deliver comments to the Alaska OCS Region, Minerals Management Service, 949 East 36th Avenue, Room 308, Anchorage, Alaska.

Our practice is to make comments, including names and addresses of respondents, available for public review during regular business hours. Individual respondents may request that we withhold their address from the rulemaking record, which we will honor to the extent allowable by law. There also may be circumstances in which we would withhold a respondent's identity, as allowable by law. If you wish us to withhold your name and/or address, you must state this prominently at the beginning of your comment. However, we will not consider anonymous comments. We will make all submissions from organizations or businesses, and from individuals identifying themselves as representatives or officials of organizations or businesses, available for public inspection in their entirety.

A. Areas of Interest to the Oil and Gas Industry. Specific nominations are being sought regarding the oil and gas industry area(s) of interest. The MMS is soliciting nominations of blocks that are of significant industry interest for exploration and development and production.

Nominations must be depicted on the Call map by outlining the area(s) of interest along block lines. Nominators are asked to submit a list of whole and partial blocks nominated (by OPD and block number) to facilitate correct interpretation of their nominations on the Call map. Although the identities of those submitting nominations become a matter of public record, the individual nominations are proprietary information.

Nominators also are requested to rank blocks nominated according to priority of interest (e.g., priority 1 (high), or 2 (medium)). Blocks nominated that do not indicate priorities will be considered priority 3 (low). Nominators must be specific in indicating blocks by priority and be prepared to discuss their range of interest and activity regarding the nominated area(s). The telephone number and name of a person to contact in the nominator's organization for additional information should be included in the response. This person will be contacted to set up a mutually agreeable time and place for a meeting with the Alaska OCS Regional Office to present their views regarding the company's nominations.

B. Relation to Coastal Management Plans (CMP). Comments also are sought on potential conflicts with approved local coastal management plans that may result from the proposed sale and future OCS oil and gas activities. These comments should identify specific CMP policies of concern, the nature of the conflicts foreseen, and steps that MMS could take to avoid or mitigate the potential conflicts. Comments may be in terms of broad areas or restricted to particular blocks of concern. Commenters are requested to list block numbers or outline the subject area on the large-scale Call map.

5. Use of Information From Call

Information submitted in response to this Call will be used for several purposes. Responses will be used to:

Help identify areas of potential oil and gas development

Identify environmental effects and potential use conflicts

Assist in the scoping process for the EIS

Develop possible alternatives to the proposed action

Develop lease terms and conditions/mitigating measures

Identify potential conflicts between oil and gas activities and the Alaska CMP

6. Existing Information

The MMS has acquired a substantial amount of information, including that gained through the use of traditional knowledge, on the issues and concerns related to oil and gas leasing in the Cook Inlet area.

An extensive environmental, social, and economic studies program has been underway in this area since 1975. The emphasis has been on geologic mapping, environmental characterization of biologically sensitive habitats, endangered whales and marine mammals, physical oceanography, ocean-circulation modeling, and ecological and socio-cultural effects of oil and gas activities.

Information on the studies program, completed studies, and a program status report for continuing studies in this area may be obtained from the Chief, Environmental Studies Section, Alaska OCS Region, by telephone request at (907) 271-6577, or by written request at the address stated under Description of Area. A request may also be made via the Alaska Region website at www.mms.gov/alaska/ref/pubindex/pubsindex.htm.

7. Tentative Schedule

The following is a list of tentative milestone dates applicable to sales covered by this Call:

Multi-Sale Process Milestones for Proposed 2002-2007 Cook Inlet Sales
Call/NOI published | December 2001.
Comments due on Call/NOI | February 2002.
Area Identification | March 2002.
Draft EIS published | November 2002.
Public Hearings | January 2003.
Final EIS/Consistency Determination/Proposed Notice of Sale issued | November 2003.
Governor's Comments due (Sale 191) | January 2004.
Final Notice of Sale published (Sale 191) | April 2004.
Sale 191 | May 2004.

Sale-Specific Process Milestones for Proposed 2002-2007 Cook Inlet Sale 199
Request for Information to Begin Sale 199 Process | December 2004.
Area Identification | February 2005.
NEPA Review published | October 2005.
Proposed Notice and Consistency Determination | December 2005.
Governor's Comments due (Sale 199) | February 2006.
Final Notice of Sale published | April 2006.
Tentative Sale 199 | May 2006.

Notice of Intent To Prepare an Environmental Impact Statement

1. Authority

The NOI is published pursuant to the regulations (40 CFR 1501.7) implementing the provisions of the NEPA of 1969 as amended (42 U.S.C. 4321 et seq. (1988)).

2. Purpose of Notice of Intent

Pursuant to the regulations (40 CFR 1501.7) implementing the procedural provisions of the National Environmental Policy Act of 1969 (42 U.S.C. 4321 et seq.), MMS is announcing its intent to prepare a multi-sale EIS on the tentatively scheduled oil and gas lease sales in the Cook Inlet area off Alaska for the 5-year program period of July 2002 through June 2007. The EIS analysis will focus on the potential environmental effects of two sales, and exploration and development and production of the areas defined in the Area Identification procedure as the proposed areas of the Federal actions. Alternatives to the proposals which may be considered for each individual sale are to delay the sale, modify the sale, or cancel the sale. These and any additional alternatives developed through the process for each individual sale will be considered in the sale-specific decision process. This NOI also serves to announce the initiation of the scoping process for this EIS. Throughout the scoping process, Federal, State, tribal, and local governments and other interested parties aid MMS in determining the significant issues and alternatives to be analyzed in the EIS and the possible need for additional information.

3. New EIS Procedure

The MMS is proposing to prepare a single EIS for two proposed Cook Inlet sales tentatively scheduled with the first sale to be held in 2004 and the second sale in 2006. The resource estimates and scenario information on which the EIS analysis are based will be presented as a range of resources and activities that would encompass either of the two proposed sales in the Cook Inlet.

This proposal will provide several benefits. It will focus the NEPA process by making impact types and levels that change between sales more easily recognizable. New issues will be more easily highlighted for the decisionmakers and the public. The NEPA regulations at 40 CFR 1502.4 require federal agencies, as appropriate, to employ tiering and other methods to relate broad and narrow actions and “to avoid duplication and delay.” The regulations further define broad actions at § 1502.4(c) as actions that relate geographically, including actions occurring in the same general location, and generically, including actions which have relevant similarities such as impacts, alternatives, methods of implementation, media, or subject matter. Further guidance is given at 40 CFR 1502.20 which encourage agencies to tier their EIS's to “eliminate repetitive discussions of the same issues and to focus on the actual issues ripe for decision at each level of environmental review.”

The proposed actions analyzed in the EIS will be the two sales on the proposed 5-year schedule for the Cook Inlet area. The EIS will include an analysis of the environmental effects of holding two sales. The scenario will cover a range of resources and activities that will encompass both proposed actions. The second sale can then be compared to the initial analysis in an Environmental Assessment or supplemental EIS. Formal consultation with the public will be initiated for the second sale to obtain input to assist in the determination of whether or not the information and analyses in the original multi-sale EIS are still valid. A sale-specific Request for Information will be issued that will specifically describe the action for which we are requesting input. If the Secretary chooses to hold only one sale in Cook Inlet as part of the 5-year decision in June 2002, then the draft and final EIS's will be modified to evaluate a single sale.

4. Instructions on Notice of Intent

Federal, State, tribal, and local governments and other interested parties are requested to send their written comments on the Scope of the EIS, significant issues that should be addressed, and alternatives that should be considered to the Regional Supervisor, Leasing and Environment, Alaska OCS Region, at the address stated under Instructions on Call above. Comments should be enclosed in an envelope labeled “Comments on the Notice of Intent to Prepare an EIS on Proposed Cook Inlet Lease Sales included in the 5-Year Program, 2002-2007.” Comments are due no later than 45 days from publication of this Notice. Scoping meetings will be held in appropriate locations to obtain additional comments and information regarding the scope of this EIS.

Dated: December 17, 2001.
Lucy Querques Denett,
Acting Director, Minerals Management Service.

BILLING CODE 4310-MR-P

[FR Doc. 01-32095 Filed 12-28-01; 8:45 am]

BILLING CODE 4310-MR-C